DEPARTMENT OF TRANSPORTATION

Federal Aviation Administration

Notice of Intent To Rule on Disposal of Aeronautical Property at Smyrna/Rutherford County Airport, Smyrna, TN

AGENCY: Federal Aviation Administration (FAA), DOT.

ACTION: Request for public comment.

SUMMARY: The Federal Aviation Administration is requesting public comment on a request by the Smyrna/Rutherford County Airport Authority, Smyrna, TN, to release land at the Smyrna/Rutherford County Airport. The request consists of approximately 2.01 acres of property non-contiguous to the airport on Rooker Road located three miles southeast of the airport. This property is a part of the parcel deeded to the airport from Government Service Administration (GSA) when Stewart Air Force base was closed and decommissioned in 1970. It is the former location of a Non Directional Beacon (NDB), which was deemed obsolete and decommissioned in September 2013. This release will allow the property to be sold for airport revenue. This action is taken under the provisions of Section 125 of the Wendell H. Ford Aviation Investment Reform Act for the 21st Century (AIR 21).

DATES: Comments must be received on or before March 24, 2016.

ADDRESSES: Documents are available for review at the Smyrna/Rutherford County Airport, 278 Doug Warpoole Rd., Smyrna, TN 37167; and the FAA Memphis Airports District Office, 2600 Thousand Oaks Boulevard, Suite 2250, Memphis, TN 38118-2482. Written comments on the Sponsor's request must be delivered or mailed to: Mr. Phillip J. Braden, Manager, Memphis Airports District Office, 2600 Thousand Oaks Boulevard, Suite 2250, Memphis, TN 38118-2482.

In addition, a copy of any comments submitted to the FAA must be mailed or delivered to Mr. John Black, Executive Director, Smyrna/Rutherford County Airport Authority, 278 Doug Warpoole Rd., Smyrna, TN 37167.

FOR FURTHER INFORMATION CONTACT: Ms. Chastity N. Clark, Program Manager, Federal Aviation Administration, Memphis Airports District Office, 2600 Thousand Oaks Boulevard, Suite 2250, Memphis, TN 38118-2482. The application may be reviewed in person at this same location, by appointment.

SUPPLEMENTARY INFORMATION: The FAA proposes to rule and invites public comment on the request to release property for disposal at Smyrna/Rutherford County Airport, Smyrna, TN 37167 under the provisions of AIR 21 (49 U.S.C. 47107(h)(2)).

On February 11, 2016, the FAA determined that the request to release property for non-aeronautical purposes at Smyrna/Rutherford County Airport meets the procedural requirements of the Federal Aviation Administration. The FAA may approve the request, in whole or in part, no later than March 24, 2016.

The following is a brief overview of the request:

The Smyrna/Rutherford County Airport is proposing the release of approximately 2.01 acres of property non-contiguous to the airport. This property is located on Rooker Road, approximately three miles southeast of the airport. This property was the former site of a Non Directional Beacon (NDB), which was decommissioned in September 2013. The airport authority intends to sale the property and use revenue for airport purposes.

Any person may inspect, by appointment, the request in person at the FAA office listed above under FOR FURTHER INFORMATION CONTACT.

Issued in Memphis, TN, on February 11, 2016.
Phillip Braden,
Manager, Memphis Airports District Office.

[FR Doc. 2016-03686 Filed 2-22-16; 8:45 am]

BILLING CODE P